DEPARTMENT OF HOMELAND SECURITY

Transportation Security Administration

Revision of Agency Information Collection Activity Under OMB Review: TSA PreCheck™ Application Program

AGENCY: Transportation Security Administration, DHS.

ACTION: 30-Day Notice.

SUMMARY: This notice announces that the Transportation Security Administration (TSA) has forwarded the Information Collection Request (ICR), Office of Management and Budget (OMB) control number 1652-0059, abstracted below to OMB for review and approval of a revision of the currently approved collection under the Paperwork Reduction Act (PRA). The ICR describes the nature of the information collection and its expected burden. TSA published a Federal Register notice, with a 60-day comment period soliciting comments, of the following collection of information on November 4, 2019, 84 FR 59401. The collection involves the submission of biographic and biometric information by individuals seeking to enroll in the TSA PreCheck™ (also known as TSA Pre✓®) Application Program, as well as optional surveys sponsored by TSA to current and former applicants related to customer service, enrollment processes, and TSA PreCheck marketing.

DATES: Send your comments by June 22, 2020. A comment to OMB is most effective if OMB receives it within 30 days of publication.

ADDRESSES: Interested persons are invited to submit written comments on the proposed information collection to the Office of Information and Regulatory Affairs, OMB. Comments should be identified by Docket ID: TSA-2013-0001 and sent to the Federal eRulemaking Portal, http://www.regulations.gov. Please follow the portal instructions for submitting comments. This process is conducted in accordance with 5 CFR 1320.1.

FOR FURTHER INFORMATION CONTACT: Christina A. Walsh, TSA PRA Officer, Information Technology (IT), TSA-11, Transportation Security Administration, 601 South 12th Street, Arlington, VA 20598-6011; telephone (571) 227-2062; email TSAPRA@tsa.dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to:

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

Title: TSA PreCheck™ Application Program.

Type of Request: Revision of currently approved collection.

OMB Control Number: 1652-0059.

Form(s): NA.

Affected Public: Air Travelers.

Abstract: The Transportation Security Administration (TSA) implemented the TSA PreCheck Application Program pursuant to its authority under sec. 109(a)(3) of the Aviation and Transportation Security Act (ATSA), Public Law 107-71 (115 Stat. 597, 613, Nov. 19, 2001, codified at 49 U.S.C. 114 note), which authorizes TSA to establish registered traveler programs, as well as section 540 of the DHS Appropriations Act, 2006, Public Law 109-90 (119 Stat. 2064, 2088-89, Oct. 18, 2005), which requires TSA to collect a fee for any registered traveler program by publication of a notice in the Federal Register.

The TSA PreCheck Application Program enhances aviation security by permitting TSA to more effectively focus its limited security resources on passengers for whom TSA has little information, while also facilitating and improving the commercial aviation travel experience for the public. Travelers who choose not to enroll in this initiative are not subject to any limitations on their travel because of their choice; they will be processed through TSA screening before entering the sterile areas of airports. TSA also retains the authority to perform standard or other screening on a random basis on TSA PreCheck Application Program participants and any other travelers authorized to receive expedited physical screening.

Under the TSA PreCheck Application Program, individuals submit biographic (including, but not limited to, name, date of birth, gender, prior and current addresses, contact information, country of birth, images of identity documents, proof of citizenship/immigration status) and biometric (such as fingerprints, iris scans, and/or facial images) information to TSA's enrollment providers. Enrollment providers transmit these data via secure interface to TSA. Referencing law enforcement, citizenship or immigration, regulatory violation, and intelligence databases, TSA uses applicants' biographic and biometric information collected during pre-enrollment, enrollment, or post-enrollment to conduct security threat assessments (STAs) and to verify applicants' identity (at enrollment and/or at the time of travel) and citizenship. TSA uses STA results to determine whether an individual poses a low risk to transportation or national security justifying eligibility for TSA PreCheck.

TSA makes the final determination on eligibility for the TSA PreCheck Application Program and notifies the applicant of the decision. On average, applicants receive notification from TSA within two to three weeks of the submission of their completed applications. Approved applicants are issued a Known Traveler Number (KTN) that is used for multiple purposes. Airline passengers who submit their KTN when making airline reservations may be eligible for expedited screening on flights originating from U.S. airports.¹ TSA uses the traveler's KTN and other information during passenger pre-screening to verify that the individual traveling matches the information on TSA's list of known travelers and to confirm TSA PreCheck expedited screening eligibility. TSA may also use the information collected, or verify the KTN and KTN-holder information, to determine a KTN holder's eligibility for other programs, such as potential eligibility for a reduced fee for another vetting program or participation in other DHS Trusted Traveler programs. TSA also will use the information submitted for identity verification at airport security checkpoints.

¹ Passengers who are eligible for expedited screening typically will receive more limited physical screening, e.g., will be able to leave on their shoes, light outerwear, and belt, to keep their laptop in its case, and to keep their 3-1-1 compliant liquids/gels bag in a carry-on. For airports with dedicated TSA PreCheck lanes, see https://www.tsa.gov/precheck/map.

Eligibility for the TSA PreCheck Application Program is within the sole discretion of TSA, which provides written notification to applicants denied eligibility, including reasons for the denial. Applicants who are initially deemed ineligible or are later identified to be ineligible due to the identification of new disqualifying information through recurrent vetting have an opportunity to correct cases of misidentification or inaccurate criminal or citizenship/immigration records. For example, if advised during the application eligibility review process that the criminal record discloses a disqualifying criminal offense, the applicant has 60 days from the date of the denial letter to submit written notification of an intent to correct any information he or she believes to be inaccurate. The applicant must also provide a certified, revised record, or the appropriate court must forward a certified true copy of the information. TSA will review any information submitted and make a final decision. If TSA does not receive a notification or a corrected record, the agency may make a final determination to deny eligibility. Individuals ineligible for the TSA PreCheck Application Program are screened at airport security checkpoints pursuant to TSA's screening protocols.

TSA is seeking a revision to the currently approved request to reflect additional enrollment and enrollment provider options in accordance with the TSA Modernization Act, Division K of the FAA Reauthorization Act of 2018, Public Law 115-254 (132 Stat. 3185; Oct. 5, 2018) at section 1937, codified at 49 U.S.C. 44919. TSA expects enrollment providers to offer additional TSA PreCheck Application Program enrollment opportunities at airports to reduce the burden on frequent travelers. As TSA continues to improve identity verification at enrollment, enrollment providers may use public records, commercial sources, or other databases containing identity information to assist in identity verification. This revision also addresses TSA's plans to utilize DHS components' services, provided via U.S. Customs and Border Protection and the Office of Biometric Identity Management, to support TSA's biometric-based identification at the checkpoint and citizenship verification through passport information provided by the Department of State. Lastly, TSA intends to collect information from TSA PreCheck members after enrollment through additional surveys to determine satisfaction and customer engagement with TSA PreCheck.

Average Annual Number of Respondents: An estimated 6,533,518 average respondents over a three-year period. This estimate includes initial enrollments, renewals, and current members who would respond to voluntary surveys, as well as non-renewing individuals who respond to voluntary surveys.

Average Annual Number of Responses: An estimated 8,080,040 average responses over a three-year period. There could be multiple responses per respondent depending on the requested information.

Estimated Annual Burden Hours: An estimated 3,397,652 average hours based on a three-year projection.² This estimate includes the time for pre-enrollment, all aspects of enrollment (including voluntary surveys), and correction of records if needed.

² TSA updated the annual estimates for the respondents and burden hours since the submission of the 60-day notice, which indicated respondents of 3,113,122 and burden hours of 4,211,661.

Estimated Cost Burden: A $252,601,799 average cost burden based on a three-year projection. With the addition of multiple enrollment providers, TSA plans to allow each provider to set its own enrollment fee. As such, TSA expects that the public-facing TSA PreCheck fee will vary across providers. In addition, TSA expects that the renewal fee will also decrease. For the purposes of estimating a cost burden, TSA has estimated that the fee will be approximately $85 for initial enrollments and drop to approximately $75 for renewals. These fees cover TSA's program costs, the FBI fee for the criminal history records check when required, and enrollment providers' costs.

Dated: May 15, 2020.
Christina A. Walsh,
TSA Paperwork Reduction Act Officer, Information Technology.

[FR Doc. 2020-10937 Filed 5-20-20; 8:45 am]

BILLING CODE 9110-05-P